DEPARTMENT OF COMMERCE

International Trade Administration

[A-583-814]

Certain Circular Welded Non-Alloy Steel Pipe From Taiwan: Preliminary Determination of No Shipments; 2017-2018

AGENCY: Enforcement and Compliance, International Trade Administration, Department of Commerce.

SUMMARY: The Department of Commerce (Commerce) preliminarily determines that there were no shipments of subject merchandise during the period of review (POR) November 1, 2017 through October 31, 2018. We invite interested parties to comment on these preliminary results.

DATES: Applicable December 27, 2019.

FOR FURTHER INFORMATION CONTACT: Chelsey Simonovich, AD/CVD Operations, Office VI, Enforcement and Compliance, International Trade Administration, U.S. Department of Commerce, 1401 Constitution Avenue NW, Washington, DC 20230; telephone: (202) 482-1979.

SUPPLEMENTARY INFORMATION:

Background

On November 1, 2018, Commerce published in the Federal Register a notice of opportunity to request an administrative review of the order on certain circular welded non-alloy steel pipe (circular welded pipe) from Taiwan for the POR.¹ On November 30, 2018, Commerce received a request for administrative review covering imports of circular welded pipe from Taiwan, which was filed in proper form by Independence Tube Corporation and Southland Tube (collectively, the petitioners).² Commerce published the notice of initiation of this administrative review on February 6, 2019, covering the two companies for which we received a request for review.³

¹ See Antidumping or Countervailing Duty Order, Finding, or Suspended Investigation; Opportunity To Request Administrative Review, 83 FR 54912 (November 1, 2018).

² See Petitioners' Letter, “Certain Circular Welded Non-Alloy Steel Pipe from Taiwan: Request for Administrative Review,” dated November 30, 2018.

³ See Initiation of Antidumping and Countervailing Duty Administrative Reviews, 84 FR 2160 (February 6, 2019).

On December 26, 2018, Commerce received a notification of no shipments from Founder Land.⁴ On March 4, 2019, Commerce received notifications of no shipments from Shin Yang Steel Co., Ltd. (Shin Yang), Tension Steel Enterprise Co., Ltd. (Tension Steel), Yieh Hsing Enterprise Co., Ltd. (Yieh Hsing), and Yieh Phui Enterprise Co., Ltd. (Yieh Phui).⁵ On August 5, 2019, Commerce made inquiries to U.S. Customs and Border Protection (CBP) informing CBP that Commerce's records indicated no shipments from Founder Land, Shin Yang, Tension Steel, Yieh Hsing, or Yieh Phui and requested that any CBP import officers aware of entries inform Commerce within ten days.⁶ We received no notifications from CBP. On August 30, 2019, Commerce published memoranda informing interested parties that we had made an inquiry to CBP with regard to entries of subject merchandise for the purposes of potential respondent selection. The results indicated that there were no shipments of subject merchandise from Taiwan as country of origin or country of export by Founder Land, Shin Yang, Tension Steel, Yieh Hsing, or Yieh Phui into the United States during the POR.⁷

⁴ See Founder Land's Letter, “Certain Circular Welded Non-Alloy Steel Pipe from Taiwan: Request for Administrative Review,” dated December 26, 2018.

⁵ See Shin Yang's Letter, “Certain Circular Welded Non-Alloy Steel Pipe from Taiwan; No Shipment Certification,” dated March 4, 2019; Tension Steel's Letter, “Certain Circular Welded Non-Alloy Steel Pipe from Taiwan; No Shipment Certification,” dated March 4, 2019; Yieh Hsing's Letter, “Certain Circular Welded Non-Alloy Steel Pipe from Taiwan; No Shipment Certification,” dated March 4, 2019; and Yieh Phui's Letter, “Certain Circular Welded Non-Alloy Steel Pipe from Taiwan; No Shipment Certification,” dated March 4, 2019.

⁶ See CBP Message 9241301, “No shipments inquiry for certain circular welded non-alloy steel pipe from Taiwan exported by Founder Land Co., Ltd. (A-583-814),” CBP Message 9214307, “No shipments inquiry for certain circular welded non-alloy steel pipe from Taiwan exported by Shin Yang Steel Co., Ltd. (A-583-814),” CBP Message 9214306, “No shipments inquiry for certain circular welded non-alloy steel pipe from Taiwan exported by Tension Steel Enterprise Co., Ltd. (A-583-814),” CBP Message 9213304, “No shipments inquiry for certain circular welded non-alloy steel pipe from Taiwan exported by Yieh Hsing Enterprise Co., Ltd. (A-583-814),” CBP Message 9213307, “No shipments inquiry for certain circular welded non-alloy steel pipe from Taiwan exported by Yieh Phui Enterprise Co., Ltd. (A-583-814),” all dated March 20, 2019.

⁷ See Memoranda, “No shipment inquiry with respect to the company below during the period 11/01/2017 through 10/31/2018,” dated August 301, 2019.

Commerce exercised its discretion to toll all deadlines affected by the partial federal government closure from December 22, 2018 through the resumption of operations on January 28, 2019.⁸ On September 10, 2019, Commerce postponed the preliminary determination of this administrative review, and the revised deadline is now December 10, 2019. This preliminary determination is made in accordance with section 751 of the Tariff Act of 1930, as amended (the Act).

⁸ See Memorandum, “Deadlines Affected by the Partial Shutdown of the Federal Government,” dated January 28, 2019. All deadlines in this segment of the proceeding have been extended by 40 days. If the new deadline falls on a non-business day, in accordance with Commerce's practice, the deadline will become the next business day.

Scope of the Order

The products covered by the order are circular welded pipe from Taiwan. For a complete description of the scope of the order, see the appendix to this notice.

Preliminary Determination of No Shipments

Based on record evidence, we preliminarily determine that Founder Land, Shin Yang, Tension, Yieh Hsing, Yieh Phui had no shipments of subject merchandise during the POR. With respect to Founder Land, Shin Yang, Tension Steel, Yieh Hsing, and Yieh Phui, CBP stated that it did not find any shipments of subject merchandise from these companies during the POR.⁹

⁹ See Founder Land's Letter, “Certain Circular Welded Non-Alloy Steel Pipe from Taiwan: Request for Administrative Review,” dated December 25, 2018; see also Shin Yang's Letter, “Certain Circular Welded Non-Alloy Steel Pipe from Taiwan; No Shipment Certification,” dated March 4, 2019, Tension Steel's Letter, “Certain Circular Welded Non-Alloy Steel Pipe from Taiwan; No Shipment Certification,” dated March 4, 2019, Yieh Hsing's Letter, “Certain Circular Welded Non-Alloy Steel Pipe from Taiwan; No Shipment Certification,” dated March 4, 2019, and Yieh Phui's Letter, “Certain Circular Welded Non-Alloy Steel Pipe from Taiwan; No Shipment Certification,” dated March 4, 2019.

Consistent with our practice, we find that it is not appropriate to rescind the review with respect to these five companies, but rather to complete the review and issue appropriate instructions to CBP based on the final results of this review.¹⁰

¹⁰ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Public Comment

Interested parties may submit case briefs to Commerce no later than 30 days after the date of publication of this notice.¹¹ Rebuttal briefs, limited to issues raised in the case briefs, may be filed not later than five days after the date for filing case briefs.¹² Pursuant to 19 CFR 351.309(c)(2) and (d)(2), parties who submit case briefs or rebuttal briefs in this proceeding are encouraged to submit with each argument: (1) A statement of the issue; (2) a brief summary of the argument; and (3) a table of authorities.

¹¹ See 19 CFR 351.309(c)(1)(ii).

¹² See 19 CFR 351.309(d).

All submissions to Commerce must be filed electronically via Enforcement and Compliance's Antidumping and Countervailing Duty Centralized Electronic Service System (ACCESS) and must also be served on interested parties.¹³ ACCESS is available to registered users at http://access.trade.gov and is available to all parties in the Central Records Unit, Room B8024 of the main Commerce building. An electronically filed document must be received successfully in its entirety by 5:00 p.m. Eastern Time on the date that the document is due.

¹³ See 19 CFR 351.303(f).

Pursuant to 19 CFR 351.310(c), interested parties who wish to request a hearing must submit a written request to the Assistant Secretary for Enforcement and Compliance, filed electronically via Commerce's electronic records system, ACCESS. An electronically filed request must be received successfully in its entirety by 5:00 p.m. Eastern Time within 30 days of the date of publication of this notice.¹⁴ Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.¹⁵ Parties should confirm the date, time, and location of the hearing two days before the scheduled date.

¹⁴ See 19 CFR 351.310(c).

¹⁵ See 19 CFR 351.310(d).

Commerce intends to issue the final results of this administrative review, including the results of its analysis of the issues raised in any case or rebuttal briefs, no later than 120 days after the date of publication of this notice, unless extended.¹⁶

¹⁶ See section 751(a)(3)(A) of the Act; and 19 CFR 351.213(h).

Assessment Rates

If we continue to find in the final results that Founder Land, Shun Yang, Tension Steel, Yieh Hsing, and Yieh Phui had no shipments of subject merchandise, for entries of subject merchandise during the POR produced by Founder Land, Shun Yang, Tension Steel, Yieh Hsing, and Yieh Phui for which these companies did not know that the merchandise was destined for the United States, we will instruct CBP to liquidate these entries at the all-others rate if there is no rate for the intermediate company(ies) involved in the transaction.¹⁷

¹⁷ For a full discussion of this clarification, see Antidumping and Countervailing Duty Proceedings: Assessment of Antidumping Duties, 68 FR 23954 (May 6, 2003).

Commerce intends to issue appropriate assessment instructions to CBP 15 days after publication of the final results of this review.

Cash Deposit Requirements

The following deposit requirements will be effective for all shipments of the subject merchandise entered, or withdrawn from warehouse, for consumption on or after the publication date of the final results of this administrative review, as provided by section 751(a)(2)(C) of the Act: (1) The cash deposit rates for Founder Land, Shun Yang, Tension Steel, Yieh Hsing, and Yieh Phui will remain unchanged from the rate assigned to them in the most recently completed review of those companies; (2) for merchandise exported by manufacturers or exporters not covered in this review but covered in a prior segment of the proceeding, the cash deposit rate will continue to be the company-specific rate published for the most recently-completed segment; (3) if the exporter is not a firm covered in this review, a prior review, or the original investigation, but the manufacturer is, the cash deposit rate will be the rate established for the most recently completed segment for the manufacturer of the merchandise; and (4) the cash deposit rate for all other manufacturers or exporters will continue to be 23.56 percent, the all-others rate established in the less-than-fair-value investigation.¹⁸ These cash deposit requirements, when imposed, shall remain in effect until further notice.

¹⁸ See Notice of Antidumping Duty Order: Circular Welded Non-Alloy Steel Pipe from Taiwan, 57 FR 49454 (November 2, 1992).

Notification to Importers

This notice serves as a preliminary reminder to importers of their responsibility under 19 CFR 351.402(f)(2), to file a certificate regarding the reimbursement of antidumping duties prior to liquidation of the relevant entries during this review period. Failure to comply with this requirement may result in the presumption that reimbursement of antidumping duties occurred and the subsequent assessment of double antidumping duties.

Notification to Interested Parties

We are issuing and publishing these results in accordance with sections 751(a)(1) and 777(i)(1) of the Act and 19 CFR 351.221(b)(4).

Dated: December 10, 2019.
Jeffrey I. Kessler,
Assistant Secretary for Enforcement and Compliance.

Appendix

Scope of the Order

The products covered by this order are (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). These pipes and tubes are generally known as standard pipes and tubes and are intended for the low pressure conveyance of water, steam, natural gas, air, and other liquids and gases in plumbing and heating systems, air conditioning units, automatic sprinkling systems, and other related uses, and generally meet ASTM A-53 specifications. Standard pipe may also be used for light load-bearing applications, such as for fence-tubing and as structural pipe tubing used for framing and support members for construction, or load-bearing purposes in the construction, shipbuilding, trucking, farm-equipment, and related industries. Unfinished conduit pipe is also included in this order.

All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind or used for oil and gas pipelines is also not included in this investigation.

Imports of the products covered by this order are currently classifiable under the following Harmonized Tariff Schedule (HTS) subheadings, 7306.30.10.00, 7306.30.50.25, 7306.30.50.32, 7306.30.50.40, 7306.30.50.55, 7306.30.50.85, 7306.30.50.90. Although the HTS subheadings are provided for convenience and customs purposes, our written description of the scope of this order is dispositive.

[FR Doc. 2019-27937 Filed 12-26-19; 8:45 am]

BILLING CODE 3510-DS-P